DEPARTMENT OF ENERGY

Federal Energy Regulatory Commission

[Project No. 1894-211]

Notice of Settlement Agreement and Soliciting Comments: South Carolina Electric & Gas Company

Take notice that the following settlement agreement has been filed with the Commission and is available for public inspection.

a. Type of Application: Settlement Agreement.

b. Project No.: P-1894-211.

c. Date filed: June 28, 2018.

d. Applicant: South Carolina Electric & Gas Company (SCE&G).

e. Name of Project: Parr Hydroelectric Project.

f. Location: The existing project is located on the Broad River, in Newberry and Fairfield Counties, South Carolina. The project includes 162.61 acres of federal lands administered by the U.S. Forest Service.

g. Filed Pursuant to: Rule 602 of the Commission's Rules of Practice and Procedure, 18 CFR 385.602.

h. Applicant Contact: Mr. William Argentieri, P.E., Manager of Civil Engineering, South Carolina Electric & Gas Company, 220 Operation Way, Mail Code A221, Cayce, SC 29033-3701; (803) 217-9162; or email bargentieri@scana.com.

i. FERC Contact: Monte TerHaar at (202) 502-6035; or monte.terhaar@ferc.gov.

j. Deadline for filing comments: Comments on the Settlement Agreement are due August 13, 2018. Reply comments are due August 27, 2018.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1894-211.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Settlement: SCE&G filed a Settlement Agreement on behalf of itself, American Rivers, American Whitewater, Congaree Riverkeeper, Mr. Jeffrey Carter, and the South Carolina Department of Natural Resources. The U.S. Fish and Wildlife Service and the National Marine Fisheries Service are currently reviewing the Settlement Agreement. The purpose of the Settlement Agreement is to resolve, among the signatories, all issues associated with issuance of a new license for the project regarding recreation; flow fluctuations downstream from Parr Shoals Dam; fisheries habitat in Monticello Reservoir; monitoring of American eel and freshwater mussels; diadromous fish protection; enhancement of aquatic habitat; water quality; shoreline management and erosion in Parr and Monticello Reservoirs; and historic properties. SCE&G requests that the Commission accept and incorporate into any new license measures as described in Appendix A of the Settlement Agreement. In addition, Appendix B of the Settlement Agreement includes off-license agreements between the signatories of the Settlement Agreement.

l. A copy of the Settlement Agreement is available for review at the Commission in the Public Reference Room, or may be viewed on the Commission's website at http://www.ferc.gov, using the eLibrary link. Enter the docket number, excluding the last three digits in the docket number field, to access the document. For assistance, contact FERC Online Support. A copy is also available for inspection and reproduction at the address in item h above.

You may also register online at http://www.ferc.gov/docs-filing/esubscription.asp to be notified via email of new filings and issuances related to this or other pending projects. For assistance, contact FERC Online Support.

Dated: July 11, 2018.
Kimberly D. Bose,
Secretary.

[FR Doc. 2018-15255 Filed 7-16-18; 8:45 am]

BILLING CODE 6717-01-P